DEPARTMENT OF TRANSPORTATION

Federal Aviation Administration

Tenth Meeting: RTCA Special Committee 220: Automatic Flight Guidance and Control

AGENCY: Federal Aviation Administration (FAA), DOT.

ACTION: Notice of RTCA Special Committee 220 meeting: Automatic Flight Guidance and Control.

SUMMARY: The FAA is issuing this notice to advise the public of a meeting of RTCA Special Committee 220: Automatic Flight Guidance and Control.

DATES: The meeting will be held May 10-12, 2011, from 9 a.m. to 5 p.m., unless stated otherwise.

ADDRESSES: The meeting will be held at Hilton Garden Inn, Fort Worth North, 4400 North Freeway, Fort Worth, Texas 76137. Hotel contact information, (817)222-0222 (ph), (817)222-0770 (fax), http://www.fortworthnorth.gardeninn.com, POC; Jennifer Severin (Jennifer.severin@hilton.com).

FOR FURTHER INFORMATION CONTACT: RTCA Secretariat, 1828 L Street, NW., Suite 805, Washington, DC 20036, telephone (202) 833-9339, fax (202) 833-9434, Web site http://www.rtca.org.

SUPPLEMENTARY INFORMATION: Pursuant to section 10(a) (2) of the Federal Advisory Committee Act (Pub. L. 92-463, 5 U.S.C., and Appendix 2), notice is hereby given for a Special Committee 220, Automatic Flight Guidance and Control.

Agenda

Tuesday May 10-Thursday, May 12, 2011

• Introductions and Administrative Items.

• Review of Meeting Agenda.

• Review and approval of summary from the first plenary meeting RTCA paper no. 043-11/SC220-022.

• Presentation of progress of WG-2.

• Presentation of progress of WG-3.

• Continue development of Installation Guidance White Papers.

• Review of Action Items.

• Administrative Items (meeting schedule, location, and next meeting agenda).

• Other Business.

• Adjourn at 2 p.m.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 14, 2011.
Robert L. Bostiga,
RTCA Advisory Committee.

[FR Doc. 2011-9486 Filed 4-19-11; 8:45 am]

BILLING CODE 4910-13-P